DEPARTMENT OF COMMERCE

International Trade Administration

Initiation of Antidumping and Countervailing Duty Administrative Reviews and Request for Revocation in Part

AGENCY: Import Administration, International Trade Administration, Department of Commerce

SUMMARY: The Department of Commerce (the Department) has received requests to conduct administrative reviews of various antidumping and countervailing duty orders and findings with July anniversary dates. In accordance with the Department's regulations, we are initiating those administrative reviews. The Department also received a request to revoke one antidumping duty order in part.

EFFECTIVE DATE: .

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b)(2002), for administrative reviews of various antidumping and countervailing duty orders and findings with July anniversary dates. The Department also received a timely request to revoke in part the antidumping duty order on Polyethylene Terephthalate Film, Sheet and Strip (PET Film) from India with respect to one exporter.

Initiation of Reviews:

In accordance with 19 CFR 351.221(c)(1)(i), we are initiating administrative reviews of the following antidumping and countervailing duty orders and findings. We intend to issue the final results of these reviews not later than July 31, 2008.

Antidumping Duty Proceedings | Period to be Reviewed
CHILE: Individually Quick Frozen Red Raspberries
A-337-806 | 7/1/06 - 6/30/07
Sociedad Agroindustrial Valle Frio, Ltda.
FINLAND: Purified Carboxymethylcellulose
A-405-803 | 7/1/06 - 6/30/07
CP Kelco Oy
INDIA: Polyethylene Terephthalate (PET) Film
A-533-824 | 7/1/06 - 6/30/07
Jindal Poly Films Limited of India
MTZ Polyfilms, Ltd.
IRAN: Certain In-Shell Pistachios
A-507-502 | 7/1/06 - 6/30/07
Ahmadi's Agricultural Production, Processing and Trade Complex
Maghsoudi Farms
Rafsanjan Pistachio Producers Cooperative
Razi domghan Agricultural & Animal Husbandry Co.
Tehran Negah Nima Trading Company, Inc.
ITALY: Certain Pasta
A-475-818 | 7/1/06 - 6/30/07
Atar, S.r.L.
Domenico Paone fu Erasmo S.p.A.
F. Divella SpA
Industria Alimentare Colavita, S.p.A.
Pasta Zara SpA
Pastificio Carmine Russo
Pastificio Di Martino Gaetano & F.lli SrL
Pastificio Felicetti SrL
Pastificio Fratelli Pagani S.p.A.
Pastificio Russo di Cicciano
Rummo S.p.A. Molino e Pastificio
Valdigrano Di Flavio Pagani SrL
MEXICO: Purified Carboxymethylcellulose
A-201-834 | 7/1/06 - 6/30/07
Quimica Amtex, S.A. de C.V.
MEXICO: Stainless Steel Sheet and Strip in Coils
A-201-822 | 7/1/06 - 6/30/07
ThyssenKrupp Mexinox S.A. de C.V.
REPUBLIC OF KOREA: Stainless Steel Sheet and Strip in Coils
A-580-834 | 7/1/06 - 6/30/07
DaiYang Metal Co., Ltd.
RUSSIA: Solid Urea
A-821-801 | 7/1/06 - 6/30/07
EuroChem
SWEDEN: Purified Carboxymethylcellulose
A-401-808 | 7/1/06 - 6/30/07
CP Kelco AB
TAIWAN: Stainless Steel Sheet and Strip in Coils
A-583-831 | 7/1/06 - 6/30/07
Ta Chen Stainless Pipe Co., Ltd.
Yieh United Steel Corporation
Chia Far Industrial Factory Co., Ltd.
China Steel Corporation
Emerdex Stainless Flat Rolled Products, Inc.
Emerdex Stainless Steel, Inc.
Emerdex Group
Tang Eng Iron Works
PFP Taiwan Co., Ltd.
Yieh Loong Enterprise Co., Ltd. (aka Chung Hung Steel Co., Ltd.)
Yieh Trading Corp.
Goang Jau Shing Enterprise Co., Ltd.
Yieh Mau Corp.
Chien Shing Stainless Co.
Chain Chon Industrial Co., Ltd.
THAILAND: Canned Pineapple
A-549-813 | 7/1/06 - 6/30/07
Vita Food Factory (1989) Co., Ltd.
THE NETHERLANDS: Purified Carboxymethylcellulose
A-421-811 | 7/1/06 - 6/30/07
CP Kelco BV
Akzo Nobel Functional Chemicals, B.V.
THE PEOPLE'S REPUBLIC OF CHINA: Persulfates¹
A-570-847 | 7/1/06 - 6/30/07
Degussa-AJ Shanghai Initiators Co., Ltd.
Shanghai AJ Import & Export Corporation
THE PEOPLE'S REPUBLIC OF CHINA: Saccharin²
A-570-878 | 7/1/06 - 6/30/07
Shanghai Fortune Chemical Co., Ltd.
Countervailing Duty Proceedings
INDIA: Polyethylene Terephthalate (PET) Film
C-533-825 | 1/1/06 - 12/31/06
MTZ Polyfilms, Ltd.
Jindal Poly Films Limited of India
ITALY: Certain Pasta
C-475-819 | 1/1/06 - 12/31/06
DeMatteis Agroalimentare S.p.A.
F.lli De Cecco di Filippo Fara San Martino S.p.A.
Pastificio Felicetti SrL
Pastificio Lucio Garofalo S.p.A.
Valdigrano Di Flavio Pagani SrL
Suspension Agreements
None.
¹If one of the above named companies does not qualify for a separate rate, all other exporters of Persulfates from the People's Republic of China who have not qualified for a separate rate are deemed to be covered by this review as part of the single PRC entity of which the named exporters are a part.
²If one of the above named companies does not qualify for a separate rate, all other exporters of Saccharin from the People's Republic of China who have not qualified for a separate rate are deemed to be covered by this review as part of the single PRC entity of which the named exporters are a part.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: August 20, 2007.
Gary Taverman,
Acting Deputy Assistant Secretary for Import Adminstration.

[FR Doc. E7-16808 Filed 8-23-07; 8:45 am]

BILLING CODE 3510-DS-S